SMALL BUSINESS ADMINISTRATION

[Disaster Declaration #12109 and #12110]

New Jersey Disaster Number NJ-00016

AGENCY: U.S. Small Business Administration.

ACTION: Amendment 2.

SUMMARY: This is an amendment of the Presidential declaration of a major disaster for Public Assistance Only for the State of New Jersey (FEMA-1897-DR), dated 04/02/2010.

Incident: Severe Storms and Flooding.

Incident Period: 03/12/2010 through 04/15/2010.

Effective Date: 05/07/2010.

Physical Loan Application Deadline Date: 06/01/2010.

Economic Injury (EIDL) Loan Application Deadline Date: 01/03/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of NEW JERSEY, dated 04/02/2010, is hereby amended to include the following areas as adversely affected by the disaster.

Primary Counties: Cumberland, Gloucester, Hunterdon, Ocean.

All other information in the original declaration remains unchanged.

(Catalog of Federal Domestic Assistance Numbers 59002 and 59008)

James E. Rivera,
Associate Administrator for Disaster Assistance.

[FR Doc. 2010-11750 Filed 5-17-10; 8:45 am]

BILLING CODE 8025-01-P